DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Estuaries Restoration Inventory.

OMB Control Number: 0648-0479.

Form Number(s): None.

Type of Request: Regular (extension of a currently approved information collection).

Number of Respondents: 15.

Average Hours per Response: Data entry of new projects, 4 hours; updates to existing projects, 2 hours.

Burden Hours: 33.

Needs and Uses: This request is for extension of a currently approved information collection.

Collection of estuary habitat restoration project information (e.g., location, habitat type, goals, status, monitoring information) will be undertaken in order to populate a restoration project database mandated by the Estuary Restoration Act of 2000. The database is intended to provide information to improve restoration methods, provide the basis for required reports to Congress, and track estuary habitat acreage restored. Estuary habitat restoration project information will be submitted by habitat restoration project managers and will be accessible to the public via Internet for data queries and project reports.

Affected Public: State, local or tribal government.

Frequency: On occasion and annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 10, 2016.
Sarah Brabson,
NOAA PRA Clearance Officer.

[FR Doc. 2016-19392 Filed 8-12-16; 8:45 am]

BILLING CODE 3510-22-P